DEPARTMENT OF COMMERCE

International Trade Administration

[A-357-812]

Honey From Argentina: Extension of Time Limit for Final Results of Administrative Review

AGENCY: Import Administration, International Trade Administration, Department of Commerce.

ACTION: Notice of extension of time limit.

SUMMARY: The Department of Commerce (the Department) is extending the time limit for the final results of the 2001-2002 administrative review of the antidumping duty order on honey from Argentina. This review covers five exporters of the subject merchandise to the United States and the period May 11, 2001 through November 30, 2002.

EFFECTIVE DATE: May 4, 2004.

FOR FURTHER INFORMATION CONTACT: Brian J. Sheba at (202) 482-0145 or Donna Kinsella at (202) 482-0194, Antidumping and Countervailing Duty Enforcement Group III, Office Eight, Import Administration, International Trade Administration, U.S. Department of Commerce, 14th Street and Constitution Avenue NW., Washington, DC 20230.

SUPPLEMENTARY INFORMATION:

Background

On December 31, 2002, the American Honey Producers Association and the Sioux Honey Association ( collectively “petitioners”) requested an administrative review of the antidumping duty order on honey from Argentina in response to the Department's notice of opportunity to request a review published in the Federal Register. See Notice of Antidumping Duty Order: Honey from Argentina, 66 FR 63672 (December 10, 2001). The petitioners requested the Department conduct an administrative review of entries of subject merchandise made by 21 Argentine producers/exporters. In addition, the Department received requests for review from 9 Argentine exporters. See Initiation of Antidumping and Countervailing Duty Administrative Reviews and Request for Revocation in Part, 68 FR 3009 (January 22, 2003).

The Department initiated the review for all companies. On January 17, 2003, petitioners withdrew their request for review of 14 companies and the Department granted this request. See Notice of Partial Rescission of Antidumping Duty Administrative Review, 68 FR 13895 (March 21, 2003).

Based on withdrawals of request for review from Compania Apicola Argentina S.A. and Mielar S.A., the Department rescinded the review with respect to these two companies. See Notice of Partial Rescission of Antidumpting Duty Administrative Review, 68 FR 25568 (May 13, 2003). On August 13, 2003, Radix S.R.L. (Radix) and Compania Europeo Americana S.A. (CEASA), submitted letters of withdrawal of request for review. On the same date, petitioners also submitted a letter of withdrawal of request for review with respect to Radix and CEASA. The Department granted these requests and subsequently rescinded the review with respect to Radix and CEASA. See Notice of Partial Rescission of Antidumping Duty Administrative Review, 68 FR 52386 (September 3, 2003).

Pursuant to the time limits for administrative reviews set forth in section 751(a)(3)(A) of the Tariff Act of 1930, as amended (the Tariff Act), the original time limit for the preliminary results of review was September 2, 2003. On July 23, 2003, we extended the time limit for the preliminary results of review to December 8, 2003. See Honey From Argentina; Extension of Time Limit for Preliminary Results of Administrative Review, 68 FR 43491. On November 26, 2003, the Department further extended the time limit for the preliminary results of review to December 31, 2003. See Honey From Argentina; Extension of Time Limit for Preliminary Results of Administrative Review, 68 FR 66399.

The Department published its preliminary results on January 6, 2004. See Honey from Argentina: Preliminary Results of Antidumping Duty Administrative Review, 69 FR 621.

Notice of Extension

Pursuant to the time limits for administrative reviews set forth in section 751(a)(3)(A) of the Tariff Act of 1930, as amended (the Tariff Act), the original time limit for the final results of review was May 5, 2004. It is not practicable to complete this review within this time limit due to a number of significant case issues, such as sales below cost, the delayed collection of cost data, high inflation, and currency devaluation. Therefore, the Department is extending the time limit for completion of the final results of review until May 21, 2004 in accordance with section 751(a)(3)(A) of the Tariff Act.

This notice is issued and published in accordance with section 751(a)(3)(A) of the Act, and § 351.213(h)(2) of the Department's regulations.

Dated: April 28, 2004.
Barbara E. Tillman,
Acting Deputy Assistant Secretary for Import Administration, Group III.

[FR Doc. 04-10098 Filed 5-3-04; 8:45 am]

BILLING CODE 3510-DS-P